DEPARTMENT OF TRANSPORTATION

Federal Highway Administration

Notice of Final Federal Agency Actions on Proposed Project in Hawaii

AGENCY: Federal Highway Administration (FHWA), DOT.

ACTION: Notice of limitation on claims for judicial review of actions.

SUMMARY: This notice announces actions taken by FHWA, U.S. Fish and Wildlife Services (USFWS), and National Oceanic and Atmospheric Administration, National Marine Fisheries Service (NMFS) that are final. The actions relate to a proposed highway project, the Honoapiilani Highway Improvements Project, between Ukumehame and Launiupoko in West Maui, State of Hawaii. These actions grant licenses, permits, and approvals for the project.

DATES: By this notice, FHWA is advising the public of final agency actions subject to 23 U.S.C. 139(l)(1). A claim seeking judicial review of the Federal agency actions on the listed highway project will be barred unless the claim is filed on or before February 19, 2026. If the Federal law that authorizes judicial review of a claim provides a time period of less than 150 days for filing such claim, then that shorter time period still applies.

FOR FURTHER INFORMATION CONTACT: For FHWA: Richelle Takara, Division Administrator, Federal Highway Administration, 300 Ala Moana Boulevard, Box 50206, Honolulu, Hawaii 96850, Telephone: (808) 541-2700. For HDOT: Robin Shishido, Deputy Director for Highways, State of Hawaii Department of Transportation, 869 Punchbowl Street, Honolulu, Hawaii 96813, Telephone: (808) 587-2220;

SUPPLEMENTARY INFORMATION: Notice is hereby given that FHWA, USFWS, and NMFS have taken final agency actions subject to 23 U.S.C. 139(l)(1) by issuing licenses, permits, and approvals for the following highway project in the State of Hawaii: The Honapiilani Highway Improvements, Ukumehame to Launiupoko Project which includes the realignment of the existing highway to provide a reliable transportation facility in West Maui. The project includes the construction of a new, primarily two-lane highway including a shared-use pathway, viaducts, bridges, drainage features, intersections, and other associated improvements.

These actions by the Federal agencies, and the laws under which such actions were taken, are described in the combined Final Environmental Impact Statement (FEIS) and Record of Decision (ROD) for the project, approved on September 8, 2025 and in other documents in the project records. The FEIS/ROD and other project records are available by contacting the Hawaii Department of Transportation or FHWA at the addresses provided above. The FEIS/ROD can be viewed and downloaded from the project website at https://honoapiilanihwyimprovements.com/ or obtained from any contact listed above.

This notice applies to all Federal agency decisions on the project that are final as of the issuance date of this notice and all laws under which such actions were taken, including but not limited to:

1. General: National Environmental Policy Act (42 U.S.C. 4321 et seq.); Federal-Aid Highway Act (23 U.S.C. 109, 139, and 128).

2. Air: Clean Air Act, as amended (42 U.S.C. 7401-7671q).

3. Noise: Noise Control Act of 1972 (42 U.S.C. 4901-4918); Procedures for Abatement of Highway Traffic Noise and Construction Noise (23 U.S.C. 109(h), 109(i)); 42 U.S.C. 4331, 4332; sec. 339(b), Public Law 04-59, 109 Stat. 568, 605.

4. Land: Section 4(f) of the Department of Transportation Act of 1966 (49 U.S.C. 303;23 U.S.C. 138); Landscaping and Scenic Enhancement (Wildflowers) (23 U.S.C. 319).

5. Wildlife: Endangered Species Act (16 U.S.C. 1531-1544 and 1536); Marine Mammal Protection Act (16 U.S.C. 1361-1423h); Fish and Wildlife Coordination Act (16 U.S.C. 661-667(d)); Migratory Bird Treaty Act (MBTA) (16 U.S.C. 703-712); Magnuson-Stevens Fishery Conservation and Management Act of 1976, as amended (16 U.S.C. 1801 et seq.), with Essential Fish Habitat requirements (16 U.S.C. 1855(b)(2)).

6. Historic and Cultural Resources: Section 106 of the National Historic Preservation Act of 1966, as amended (54 U.S.C. 306108 et seq.); Archaeological Resources Protection Act of 1977 (16 U.S.C. 470(aa)-470(mm)); Archaeological and Historic Preservation Act (54 U.S.C. 312501-312508); Native American Grave Protection and Repatriation Act (NAGPRA) (25 U.S.C. 3001 et seq.).

7. Social and Economic: American Indian Religious Freedom Act (42 U.S.C. 1996); Farmland Protection Policy Act (FPPA) (7 U.S.C. 4201-4209); the Uniform Relocation Assistance and Real Property Acquisition Policies Act of 1970, as amended (42 U.S.C. 4601 et seq., as amended by the Uniform Relocation Act Amendments of 1987 (Pub. L. 100-17)).

8. Wetlands and Water Resources: Coastal Zone Management Act (16 U.S.C. 1451-1464); Land and Water Conservation Fund Act (16 U.S.C. 4601-4604); Safe Drinking Water Act (SDWA) (42 U.S.C. 300(f)-300(j)-26); Rivers and Harbors Act of 1899 (33 U.S.C. 401-406); Wetlands Mitigation (23 U.S.C. 119(g) and 133(b)(14)); Flood Disaster Protection Act (42 U.S.C. 4012a, 4106).

9. The analysis pertaining to any applicable Executive Order considered during the environmental review process to the extent such analysis may be challenged in court. Such Executive Orders may include: E.O. 11990 Protection of Wetlands; E.O. 11988 and 13690, Floodplain Management; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

Authority: 23 U.S.C. 139 (l)(1).

Richelle Takara,
Division Administrator, Honolulu, HI.

[FR Doc. 2025-18301 Filed 9-19-25; 8:45 am]

BILLING CODE 4910-RY-P